DEPARTMENT OF ENERGY

Federal Energy Regulatory Commission

[Project No. 5089-027]

Fall River Rural Electric Cooperative, Inc.; Notice of Scoping Meetings and Soliciting Scoping Comments

Take notice that the following hydroelectric application has been filed with the Commission and is available for public inspection.

a. Type of Application: New Major License.

b. Project No.: 5089-027.

c. Date filed: August 31, 2021.

d. Applicant: Fall River Rural Electric Cooperative, Inc.

e. Name of Project: Felt Hydroelectric Project (Felt Project or project).

f. Location: On the Teton River, near the town of Tetonia, in Teton County, Idaho. The project occupies 114.4 acres of federal land administered by the Bureau of Land Management.

g. Filed Pursuant to: Federal Power Act, 16 U.S.C. 791(a)-825(r).

h. Applicant Contact: Nicholas Josten, 2742 Saint Charles Ave., Idaho Falls, Idaho 83404; (208) 528-6152.

i. FERC Contact: John Matkowski at (202) 502-8576; or email at john.matkowski@ferc.gov.

j. Deadline for filing scoping comments: May 21, 2024.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, please send a paper copy via U.S. Postal Service to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. All filings must clearly identify the project name and docket number on the first page: Felt Hydroelectric Project (P-5089-027).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The Felt Project includes: (1) a 122.5-foot-long, 12-foot-high concrete dam that includes the following sections: (a) 25-foot-long sluiceway section with a 4-foot-wide fish ladder and a 14-foot-wide corrugated steel radial gate and (b) a 96-foot-long uncontrolled overflow spillway with a crest elevation of 5,530-feet mean sea level (msl); (2) a 7-acre impoundment with a storage capacity of 28 acre-feet at a normal water surface elevation of 5,530-feet msl; (3) a 178-foot-long, 8.5-foot-deep fish screen structure equipped with a bar rack with 3/8-inch clear bar spacing and diamond mesh screen; (4) three intake openings located behind the fish screen each equipped with 10-foot-wide intake gates and 10-foot-wide trash racks with 3-inch clear bar spacing; (5) three, 8-foot-square unlined rock tunnels connecting the intakes to penstocks and consisting of: (a) a 179-foot-long Tunnel No. 1 connecting to a 280-foot-long, 78-inch-diameter steel penstock that bifurcates into two, 180-foot-long, 60-inch-diameter steel penstocks that connect to Powerhouse No. 1; and (b) a 177-foot-long Tunnel No. 2 and a 196-foot-long Tunnel No. 3 each connecting to a 1,750-foot-long, 96-inch-diameter steel penstock that connects to Powerhouse No. 2; (6) an 83-foot-long, 26-foot-wide, 13-foot-high reinforced concrete Powerhouse No. 1 containing two horizontal Francis turbine-generator units with a combined generating capacity of 1,950 kilowatts (kW); (7) a 36-foot-long, 36-foot-wide, 25-foot-high reinforced concrete Powerhouse No. 2 containing two vertical Francis turbine-generator units with a combined generating capacity of 5,500 kW; (8) two tailrace channels discharging to the Teton River from Powerhouses No. 1 and No. 2; (9) a 1,500-foot-long, 4.16 kilovolt (kV) overhead transmission line connecting Powerhouse No. 1 to a transformer located next to Powerhouse No. 2; (10) a 2,000-foot-long, 24.9 kV overhead transmission line leading from the transformer to the interconnection point; and (11) appurtenant facilities.

The project operates in a run-of-river mode such that outflow from the project approximates inflow. The project has a maximum hydraulic capacity of 900 cubic feet per second (cfs) when all four turbine generator units in Powerhouse No. 1 (upper powerhouse) and Powerhouse No. 2 (lower powerhouse) are operating. The project is required to discharge a minimum flow into the 1,950-foot-long bypassed reach of 20 cfs from July 1 to March 14 and 50 cfs from March 15 to June 30. The project generates an average of 33,100 megawatt-hours per year.

m. Copies of the application can be viewed on the Commission's website at https://www.ferc.gov, using the “eLibrary” link. Enter the project's docket number, excluding the last three digits in the docket number field, to access the document. For assistance, contact FERC Online Support.

You may also register at https://ferconline.ferc.gov/FERCOnline.aspx to be notified via email of new filings and issuances related to this or other pending projects. For assistance, please contact FERC Online Support at FERCOnlineSupport@ferc.gov.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595, or at OPP@ferc.gov.

n. Scoping Process:

Pursuant to the National Environmental Policy Act (NEPA), Commission staff intends to prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS.

Scoping Meetings

Commission staff will hold two public scoping meetings to receive input on the scope of the NEPA document. An evening meeting will focus on receiving input from the public and a daytime meeting will focus on the concerns of resource agencies, non-governmental organizations (NGOs), and Indian Tribes. We invite all interested agencies, Indian Tribes, NGOs, and individuals to attend one or both meetings. The times and locations of these meetings are as follows:

Daytime Scoping Meeting

Date: Tuesday, April 23, 2024

Time: 1:00 p.m. MT

Place: AmericInn Lodge

Address: 1098 Golden Beauty Dr, Rexburg, Idaho 83440

Evening Scoping Meeting

Date: Tuesday, April 23, 2024

Time: 6:00 p.m. MT

Place: AmericInn Lodge

Address: 1098 Golden Beauty Dr, Rexburg, Idaho 83440

Copies of the Scoping Document (SD1) outlining the subject areas to be addressed in the NEPA document were distributed to the parties on the Commission's mailing list. Copies of the SD1 will be available at the scoping meeting or may be viewed on the web at http://www.ferc.gov using the “eLibrary” link (see item m above).

An environmental site review is typically held in conjunction with the scoping meeting. However, access to the project site is likely to be limited by winter weather and/or poor vehicular access conditions when scoping for this project will occur. For these reasons, an environmental site review will not be conducted at this time.

Objectives

At the scoping meetings, Commission staff will: (1) summarize the environmental issues tentatively identified for analysis in the NEPA document; (2) solicit from the meeting participants all available information, especially quantifiable data, on the resources at issue; (3) encourage statements from experts and the public on issues that should be analyzed in the NEPA document, including viewpoints in opposition to, or in support of, the staff's preliminary views; (4) determine the resource issues to be addressed in the NEPA document; and (5) identify those issues that require a detailed analysis, as well as those issues that do not require a detailed analysis.

Procedures

The meetings are recorded by a stenographer and become part of the formal record of the Commission proceeding on the project. Individuals, NGOs, Indian Tribes, and agencies with environmental expertise and concerns are encouraged to attend the meeting and to assist the staff in defining and clarifying the issues to be addressed in the NEPA document.

Dated: March 22, 2024.
Debbie-Anne A. Reese,
Acting Secretary.

[FR Doc. 2024-06642 Filed 3-27-24; 8:45 am]

BILLING CODE 6717-01-P